ENVIRONMENTAL PROTECTION AGENCY

40 CFR Part 52

[NC98-200237b; FRL-7377-7]

Approval and Promulgation of Implementation Plans; North Carolina: Approval of Miscellaneous Revisions to The Mecklenburg County Local Implementation Plan

AGENCY: Environmental Protection Agency (EPA).

ACTION: Proposed rule.

SUMMARY: The EPA is proposing to approve the Local Implementation Plan (LIP) revision submitted by the Mecklenburg County Department of Environmental Protection, through the State of North Carolina, for the purpose of approving regulations pertaining to volatile organic compound emissions and other miscellaneous sections of the Mecklenburg County Air Pollution Control Ordinance. In the Final Rules section of this Federal Register, the EPA is approving the Mecklenburg county LIP revisions as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule.

The EPA will not institute a second comment period on this document. Any parties interested in commenting on this document should do so at this time.

DATES: Written comments must be received on or before November 21, 2002.

ADDRESSES: All comments should be addressed to: Randy Terry at the EPA, Region 4 Air Planning Branch, 61 Forsyth Street, SW, Atlanta, Georgia 30303-8960.

Copies of the State submittal(s) are available at the following addresses for inspection during normal business hours:

Environmental Protection Agency, Region 4, Air Planning Branch, 61 Forsyth Street, SW, Atlanta, Georgia 30303-8960. Randy Terry, 404/562-9032.

Mecklenburg County Department of Environmental Protection 700 North Tryon Street, Charlotte, North Carolina 28202-2236.

North Carolina Department of Environment and Natural Resources, 512 North Salisbury Street, Raleigh, North Carolina 27604.

FOR FURTHER INFORMATION CONTACT: Randy B. Terry at 404/562-9032, or by electronic mail at terry.randy@epa.gov.

SUPPLEMENTARY INFORMATION: For additional information see the direct final rule which is published in the Rules section of this Federal Register.

Dated: August 14, 2002.
A. Stanley Meiburg,
Acting Regional Administrator, Region 4.

[FR Doc. 02-23583 Filed 10-21-02; 8:45 am]

BILLING CODE 6560-50-P